DEPARTMENT OF COMMERCE

Bureau of Export Administration

Transportation and Related Equipment Technical Advisory Committee Notice of Partially Closed Meeting

The Transportation and Related Equipment Technical Advisory Committee will meet on June 21, 2000, 9 a.m., in the Herbert C. Hoover Building, Room 3884, 14th Street between Constitution and Pennsylvania Avenues, NW, Washington, DC. The Committee advises the Office of the Assistant Secretary for Export Administration with respect to technical questions that affect the level of export controls applicable to transportation and related equipment or technology.

Public Session

1. Election of Chairman.

2. Presentation of public papers or comments.

3. Update on status of Wassenaar Arrangement proposals.

4. Update on Missile Technology Control Regime.

5. Report on Bureau of Export Administration initiatives.

6. Discussion of possible Commerce Control List changes.

Closed Session

7. Discussion of matters properly classified under Executive Order 12958, dealing with the U.S. export control program and strategic criteria related thereto.

A limited number of seats will be available during the public session of the meeting. Reservations are not accepted. To the extent time permits, members of the public may present oral statements to the Committee. The public may submit written statements at any time before or after the meeting. However, to facilitate distribution of public presentation materials to Committee members, the Committee suggests that the public forward the materials prior to the meeting to the following address: Ms. Lee Ann Carpenter, OSIES/EA/BXA, MS: 3876, U.S. Department of Commerce, 14th St. & Constitution Ave., NW, Washington, DC 20230.

The Assistant Secretary for Administration, with the concurrence of the delegate of the General Counsel, formally determined on January 12, 1999, pursuant to section 10(d) of the Federal Advisory Committee Act, as amended, that the series of meetings or portions of meetings of the Committee and of any Subcommittee thereof, dealing with the classified materials listed in 5 U.S.C. 552(c) (1) shall be exempt from the provisions relating to public meeting found in section 10(a) (1) and (a)(3) of the Federal Advisory Committee Act. The remaining series of meetings or portions thereof will be open to the public.

A copy of the Notice of Determination to close meetings or portions of meetings of the Committee is available for public inspection and copying in the Central Reference and Records Inspection Facility, Room 6020, U.S. Department of Commerce, Washington, DC. For further information or copies of the minutes call (202) 482-2583.

Dated: May 26, 2000.
Lee Ann Carpenter,
Committee Liaison Officer.

[FR Doc. 00-13740 Filed 5-31-00; 8:45 am]

BILLING CODE 3510-JT-M